DEPARTMENT OF LABOR

Office of the Secretary

Delegation of Authority and Assignment of Responsibility to the Assistant Secretary for Employment and Training

On April 22, 2002, the Secretary of Labor issued a memorandum to the Assistant Secretary for Employment and Training delegating authority and assigning responsibility to invoke all appropriate claims of governmental privilege arising from the functions of the Employment and Training Administration. A copy of that memorandum is annexed hereto as an Appendix.

FOR FURTHER INFORMATION CONTACT: Charles D. Raymond, Associate solicitor for Employment and Training Legal Services, at (202) 693-5710. This is not a toll-free number.

Signed in Washington, DC, this 3rd day of May, 2002.
Eugene Scalia,
Solicitor of Labor.

Secretary of Labor

Washington

April 22, 2002.

Memorandum for: EMILY STOVER DE ROCCO, Assistant Secretary, Employment and Training Administration

From: ELAINE CHAO

Subject: Specific Delegation of Authority to the Assistant Secretary for Employment and Training

Effective immediately, the Assistant Secretary for Employment and Training is hereby delegated authority and assigned responsibility to invoke all appropriate claims of governmental privilege arising from the functions of the Employment and Training Administration, following her personal consideration of the matter, and in accordance with the following guidelines:

(a) Informant's Privilege (to protect from disclosure the identity of any person who has provided information to the Employment and Training Administration in cases arising under the statutes listed in Secretary's Orders 4-75, 3-81 and 2-85): A claim of privilege may be asserted where the Assistant Secretary has determined that disclosure of the privileged matter may: (1) interfere with the Employment and Training Administration's investigation or enforcement of a particular statute for which the Employment and Training Administration exercises investigative or enforcement authority; (2) adversely affect persons who have provided information to the Employment and Training Administration; or (3) deter other persons from reporting violations of the statutes.

(b) Deliberative Process Privilege (to withhold information which may disclose pre-decisional intra-agency or inter-agency deliberations, including the analysis and evaluation of fact, written summaries of factual evidence, and recommendations, opinions or advice on legal or policy matters in cases arising under the statutes listed in Secretary's Orders 4-75, 3-81 and 2-85): A claim of privilege may be asserted where the Assistant Secretary has determined that disclosure of the privileged matter would have an inhibiting effect con the agency's decision-making processes.

(c) Privilege for Investigational Files Compiled for Law Enforcement Purposes (to withhold information which may reveal the Employment and Training Administration's confidential investigative techniques and procedures): The investigative file privilege may be asserted where the Assistant Secretary has determined the disclosure of the privileged matter may have an adverse impact upon the Employment and Training Administration's enforcement of the statutes listed in Secretary's Orders 4-75, 3-81 and 2-85 by: (1) disclosing investigative techniques and methodologies; (2) deterring persons from providing information to the Employment and Training Administration; (3) prematurely revealing the facts of the Employment and Training Administration's case; or (4) disclosing the identities of persons who have provided information under an express or implied promise of confidentiality.

(d) Prior to filing a formal claim of privilege, the Assistant Secretary shall personally review all documents sought to be withheld (or, in case where the volume is so large that all of them cannot be personally reviewed in a reasonable time, an adequate and representative sample of such documents), together with a description or summary of the litigation with which the disclosure is sought.

(e) In asserting a claim of governmental privilege, the Assistant Secretary may ask the Solicitor of Labor, or the Solicitor's representative, to file any necessary legal papers or documents.

[FR Doc. 02-11632 Filed 5-8-02; 8:45 am]

BILLING CODE 4510-30-M